DEPARTMENT OF TRANSPORTATION

National Highway Traffic Safety Administration

[Docket No. NHTSA-2005-22971; Notice 2]

Weekend Warrior Trailers, Inc., Denial of Petition for Decision of Inconsequential Noncompliance

Weekend Warrior Trailers, Inc. (Weekend Warrior) has determined that certain ramp-equipped travel trailers that it produced in 2001 through 2005 do not comply with 49 CFR 571.108, Federal Motor Vehicle Safety Standard (FMVSS) No. 108, “Lamps, reflective devices, and associated equipment.” Pursuant to 49 U.S.C. 30118(d) and 30120(h), Weekend Warrior has petitioned for a determination that this noncompliance is inconsequential to motor vehicle safety and has filed an appropriate report pursuant to 49 CFR part 573, “Defect and Noncompliance Reports.” Notice of receipt of the petition was published, with a 30 day comment period, on November 23, 2005 in the Federal Register (70 FR 70915). NHTSA received one comment.

Affected are a total of approximately 13,447 ramp-equipped travel trailers produced between January 2001 and September 2005. FMVSS No. 108 requires that these vehicles be equipped with amber intermediate side marker lamps and reflex reflectors, and red identification lamps. However, the subject vehicles are not equipped with these devices.

Weekend Warrior believes that the noncompliance is inconsequential to motor vehicle safety and that no corrective action is warranted. Weekend Warrior states that the noncompliance has caused no safety related accidents or injuries, and that it has received no customer complaints or notification of injuries or deaths related to the absence of the required items.

NHTSA has reviewed the petition and has determined that the noncompliance is not inconsequential to motor vehicle safety.

Weekend Warrior did not equip the subject trailers with identification lamps, intermediate side reflex reflectors, or intermediate side marker lamps, all of which have been required on large trailers since January 1, 1969. The ability of motorists to distinguish large trucks and trailers from passenger vehicles is an essential component of crash avoidance because of size, maneuvering, and speed differences between the two types of vehicles. High mounted identification lamps uniquely identify large vehicles and do so with the longest possible sight preview of the lamps. Intermediate side marker lamps and reflex reflectors provide additional marking to notify oncoming drivers of the presence of a long vehicle and one across the roadway.

The agency received one comment from FMVSS Consulting, which supported denial of this petition, based on the safety need for enhanced lighting and conspicuity materials which, the commenter states, are needed because “[t]railers need abundant conspicuity at night to meet the need for safety.” NHTSA agrees.

A review of NHTSA's research report “An Analysis of Fatal Large Truck Crashes” (DOT HS 809 569) indicates that 7,026 passenger vehicle drivers died as a result of crashes with combination trucks (i.e., trucks pulling trailers) from 1996 through 1999. Of those, 11 percent were rear end collisions with the passenger vehicle striking the combination truck, 13 percent were sideswipes where the passenger vehicle encroached, and 5 percent were related to trucks turning across the path of the passenger vehicle. NHTSA believes that commercial vehicle conspicuity may have been a factor in many of these crashes. Therefore, NHTSA concludes that the manufacturer's installation of these components, as required by FMVSS No. 108, is critical for motor vehicle safety.

Weekend Warrior notes that it has not received any complaints or reports of injury as a result of the missing equipment. The agency does not consider the company's having not received such complaints or reports to be compelling evidence of the inconsequentiality of this noncompliance to safety.

In consideration of the foregoing, NHTSA has decided that the petitioner has not met its burden of persuasion that the noncompliance described is inconsequential to motor vehicle safety. Accordingly, Weekend Warrior's petition is hereby denied.

Authority: (49 U.S.C. 30118, 30120; delegations of authority at CFR 1.50 and 501.8.)

Issued on: Janaury 27, 2006.
Daniel C. Smith,
Associate Administrator for Enforcement.

[FR Doc. E6-1372 Filed 1-31-06; 8:45 am]

BILLING CODE 4910-59-P